DEPARTMENT OF HOMELAND SECURITY

U.S. Citizenship and Immigration Services

Agency Information Collection Activities: Form G-28, Revision of a Currently Approved Information Collection; Comment Request

ACTION: 30-Day Notice of Information Collection Under Review: Form G-28, Notice of Entry of Appearance as Attorney or Accredited Representative.

The Department of Homeland Security, U.S. Citizenship and Immigration Services (USCIS) will be submitting the following information collection request to the Office of Management and Budget (OMB) for review and clearance in accordance with the Paperwork Reduction Act of 1995. An information collection notice was previously published in the Federal Register on October 12, 2011, at 76 FR 63322, allowing for a 60-day public comment period. USCIS received comments one comment in connection with the 60-day notice. A discussion of the comment and USCIS' response is addressed in item 8 of the supporting statement that can be viewed at: http://www.regulations.gov.

The purpose of this notice is to allow an additional 30 days for public comments. Comments are encouraged and will be accepted until March 29, 2012. This process is conducted in accordance with 5 CFR 1320.10.

Written comments and/or suggestions regarding the item(s) contained in this notice, especially regarding the estimated public burden and associated response time, should be directed to the Department of Homeland Security (DHS) and to the Office of Management and Budget (OMB), USCIS Desk Officer. Comments may be submitted to: USCIS, Chief, Regulatory Products Division, 20 Massachusetts Avenue, Washington, DC 20529-2020. Comments may also be submitted to DHS via facsimile to 202-272-0997 or via email at uscisfrcomment@dhs.gov, and to the OMB USCIS Desk Officer via facsimile at 202-395-5806 or via email at oira_submission@omb.eop.gov.

When submitting comments by email please make sure to add OMB Control Number 1615-0105 in the subject box. Written comments and suggestions from the public and affected agencies should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of This information collection:

(1) Type of Information Collection: Revision of an existing information collection.

(2) Title of the Form/Collection: Notice of Entry of Appearance as Attorney or Accredited Representative.

(3) Agency form number, if any, and the applicable component of the Department of Homeland Security sponsoring the collection: Form G-28. U.S. Citizenship and Immigration Services.

(4) Affected public who will be asked or required to respond, as well as a brief abstract: Primary: Individuals or households. The data collected on Form G-28 is used by DHS to determine eligibility of the individual to appear as a representative.

(5) An estimate of the total number of respondents and the amount of time estimated for an average respondent to respond: 2,479,000 responses at 20 minutes (.333 hours) per response.

(6) An estimate of the total public burden (in hours) associated with the collection: 825,507 annual burden hours.

If you need a copy of the information collection instrument, please visit the Web site at: http://www.regulations.gov/.

We may also be contacted at: USCIS, Regulatory Products Division, 20 Massachusetts Avenue NW., Washington, DC 20529-2020, telephone number 202-272-8377.

Dated: February 22, 2012.
Sunday Aigbe,
Chief, Regulatory Products Division, Office of the Executive Secretariat, U.S. Citizenship and Immigration Services, Department of Homeland Security.

[FR Doc. 2012-4592 Filed 2-27-12; 8:45 am]

BILLING CODE 9111-97-P